DEPARTMENT OF ENERGY

Federal Energy Regulatory Commission

[Project No. 15094-002]

Ohio Power and Light, LLC; Notice Of Schedule for The Final License Order for The Robert C. Byrd Locks and Dam Hydroelectric Project

On January 23, 2025, Ohio Power and Light, LLC filed an original application, pursuant to Part I of the Federal Power Act, for the proposed Robert C. Byrd Locks and Dam Hydroelectric Project No. 15094. On January 14, 2026, the Commission issued a combined Notice of Application Ready for Environmental Analysis and Intent to Prepare an Environmental Assessment (EA), which established an anticipated issuance date for the EA of September 29, 2026.¹

¹ For tracking purposes under the National Environmental Policy Act, the unique identification number for documents relating to this environmental review is EAXX-019-20-000-1767861985.

The project is covered under Title 41 of the Fixing America's Surface Transportation Act (FAST-41). Under FAST-41, agencies are to publish completion dates for all federal environmental reviews and authorizations. This notice identifies the Commission's anticipated schedule for issuance of the final license order for the project, which is dependent on the completion of consultation under section 7 of the Endangered Species Act and the issuance of a water quality certification under section 401 of the Clean Water Act. We currently anticipate issuing the final order no later than:

Issuance of Final Order—March 18, 2027

If a schedule change becomes necessary, additional notice will be provided so that interested parties and the relevant agencies are kept informed of the project's progress.

(Authority: 18 CFR 2.1)

Dated: January 28, 2026.
Debbie-Anne A. Reese,
Secretary.

[FR Doc. 2026-02064 Filed 1-30-26; 8:45 am]

BILLING CODE 6717-01-P